ENVIRONMENTAL PROTECTION AGENCY

[FRL-7446-9]

Notice of Open Meeting; Environmental Financial Advisory Board, March 4-5, 2003

The Environmental Protection Agency's (EPA) Environmental Financial Advisory Board (EFAB) will hold an open meeting of the full Board in Washington, DC on March 4-5, 2003. The meeting will be held at the National Press Club, 13th Floor in the Holeman Lounge, 14th and F Street, NW., Washington, DC. The Tuesday, March 4 session will run from 8:30 a.m. to 5 p.m. and the Wednesday, March 5 session will begin at 8 a.m. and end at approximately 11 a.m.

EFAB is chartered with providing analysis and advice to the EPA Administrator and program offices on environmental finance. The purpose of this meeting is to hear from informed speakers on environmental finance issues, proposed legislation and Agency priorities and to discuss progress with work products under EFAB's current strategic action agenda. Environmental financing topics expected to be discussed include: State environmental funding, financial assurance at industrial sites; water infrastructure gap, cost-effective environmental management and other public finance projects.

The meeting is open to the public, but seating is limited. To confirm your participation or get further information, please contact Vanessa Bowie, EFAB Coordinator, U.S. EPA on (202) 564-5186.

Dated: January 24, 2003.
Joseph Dillon,
Comptroller.

[FR Doc. 03-2432 Filed 1-31-03; 8:45 am]

BILLING CODE 6560-50-P